DEPARTMENT OF COMMERCE

International Trade Administration

The Manufacturing Council: Recruitment Notice for The Manufacturing Council

AGENCY: International Trade Administration, U.S. Department of Commerce.

ACTION: Notice.

SUMMARY: Notice is hereby given that the Department of Commerce is searching for individuals to help advise and assist the Department on manufacturing policies by applying to be members of The Manufacturing Council. The mission of The Manufacturing Council, a Secretarial Board at the Department of Commerce, is to ensure regular communication between the Federal Government and the manufacturing sector. The Council advises the Secretary of Commerce on government policies and programs that affect U.S. manufacturing and provides a forum for proposing solutions to industry-related problems. For information about the Council, please visit the Manufacturing Council Web site at: http://www.manufacturing.gov/council.htm.

The Department of Commerce is seeking applicants who are active manufacturing executives (Chairman, President or CEO level) that are leaders within their local manufacturing communities and industries. To the extent possible, the Department would like to ensure a balanced membership of U.S. manufacturing industry sectors, geographic locations, and business sizes. Potential candidates must be U.S. citizens.

Deadline: Applications for immediate appointment should be received prior to November 15, 2007. However, applications will accepted throughout FY2008 for consideration in the case of future vacancies.

Interested Applicants: Interested applicants should send a resume and cover letter to: The Manufacturing Council Executive Secretariat, U.S. Department of Commerce, 1401 Constitution Avenue, NW., Room 4043, Washington, DC 20230.

Dated: October 25, 2007.
Kate Worthington,
Executive Secretariat, The Manufacturing Council.

[FR Doc. 07-5427 Filed 10-31-07; 8:45 am]

BILLING CODE 3510-DR-P